COMMISSION ON REVIEW OF OVERSEAS MILITARY FACILITY STRUCTURE OF THE UNITED STATES

Public Meeting

AGENCIES: Commission on Review of Overseas Military Facility Structure of the United States (Overseas Basing Commission).

ACTION: Notice of public meeting.

SUMMARY: In accordance with the Federal Advisory Committee Act, section 552 of title 5 U.S.C., this serves as public notice of a meeting of the Commission on the Review of Overseas Military Facility Structure of the United States. The Commission will meet to receive testimony from military experts and members of Congress concerning matters relating to the overseas military facility structure of the United States.

DATES: September 2, 2004, at 9:30 a.m., local time.

ADDRESSES: The meeting will be held at the United States Senate, Dirksen Senate Office Building, Room 138, 1st and C Streets, NE, Washington, DC. Security procedures at the Dirksen Senate Office Building may require inspection of purses, packages, screening of individuals, and presentation of a valid individual identification document. The building is physically accessible to people with disabilities.

FOR FURTHER INFORMATION CONTACT: Mr. Wade Nelson, Public Affairs, at (708) 204-0711.

Public Participation: Members of the general public wishing to inform the Commission may submit their comments in writing to the Commission at the time of the meeting.

SUPPLEMENTARY INFORMATION: The Commission is established by Public Law 108-132 to provide Congress and the President with a thorough study and review of matters relating to the military facility structure overseas. The law requires the report to include a proposal for an overseas basing strategy to meet current and future DoD missions.

Dated: August 20, 2004.
Patricia J. Walker,
Executive Director, Commission on Review of Overseas Military Facility Structure of the United States.

[FR Doc. 04-19520 Filed 8-27-04; 8:45 am]

BILLING CODE 6820-YK-M